DEPARTMENT OF LABOR

Employment and Training Administration

[TA-W-42,263]

Arkansas Metal Castings, Inc., Ft. Smith, AR; Notice of Termination of Investigation

Pursuant to Section 221 of the Trade Act of 1974, an investigation was initiated on December 9, 2002 in response to a worker petition which was filed on behalf of workers at Arkansas Metal Castings, Inc., Ft. Smith, Arkansas.

The petitioner has requested that the petition be withdrawn. Consequently, further investigation in this case would serve no purpose; and the investigation has been terminated.

Signed in Washington, DC this 20th day of December, 2002.
Linda G. Poole,
Certifying Officer, Division of Trade Adjustment Assistance.

[FR Doc. 03-402 Filed 1-8-03; 8:45 am]

BILLING CODE 4510-30-P